DEPARTMENT OF ENERGY

Federal Energy Regulatory Commission

[Docket No. RP02-229-001]

Texas Eastern Transmission, LP; Notice of Errata Filing

May 6, 2002.

Take notice that Texas Eastern Transmission, LP (Texas Eastern) on April 30, 2002 tendered for filing an errata filing in order to correct certain typographical errors on the Summary of Refunds schedule included in its refund report filed on April 17, 2002 in Docket No. RP02-229.

Texas Eastern states that copies of its filing have been mailed to all affected customers and interested state commissions.

Any person desiring to protest said filing should file a protest with the Federal Energy Regulatory Commission, 888 First Street, NE., Washington, DC 20426, in accordance with Section 385.211 of the Commission's Rules and Regulations. All such protests must be filed on or before May 13, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-11760 Filed 5-9-02; 8:45 am]

BILLING CODE 6717-01-P